ENVIRONMENTAL PROTECTION AGENCY

[ER-FRL-8593-8]

Environmental Impacts Statements; Notice of Availability

Responsible Agency: Office of Federal Activities, General Information (202) 564-7167 or http://www.epa.gov/compliance/nepa/. Weekly receipt of Environmental Impact Statements filed 05/18/2009 through 05/22/2009, pursuant to 40 CFR 1506.9.

EIS No. 20090168, Final EIS, AFS, CO, Hermosa Landscape Grazing Analysis Project, Proposes to Continue to Authorize Livestock Grazing Cascade Reservoir, Dutch Creek, Elbert Creek, Hope Creek South Fork, and Upper Hermosa Allotments, Columbine Ranger District, San Juan National Forest, La Plata and San Juan Counties, CO, Wait Period Ends: 06/29/2009, Contact: Cam Hooley 970-884-1414.

EIS No. 20090169, Final Supplement, FHW, MO, Interstate 70 Corridor Improvements, Kansas City to St. Louis, Updated Information, Evaluates if a Truck-Only Lane Strategy is Viable, Kansas City to St. Louis, MO, Wait Period Ends: 06/29/2009, Contact: Peggy Casey 573-636-7104.

EIS No. 20090170, Draft EIS, FHW, WI, Zoo Interchange Corridor Study, Reconstruction to I-94 from 70th Street to 124 Street and on US 45 from Burleigh Street to I-894/US 45 and Lincoln Avenue in Milwaukee County, WI, Comment Period Ends: 07/13/2009, Contact: Allen Radlifff 608-829-7500.

EIS No. 20090171, Draft EIS, NOA\SFW, WA, PROGRAMMATIC—Lower Duwamish River Natural Resource Damage Assessment (NRDA) Restoration Plan, Implementation, King County, WA, Comment Period Ends: 07/28/2009, Contact: Patricia Montanio 301-713-2325.

Department of the Commerce's/NOA and the Department of Interior's/SFW are Joint Lead Agencies on this project.

EIS No. 20090172, Final EIS, NOA, CA, Southwest Fisheries Science Center Replacement, Construction and Operation, located on University of California, La Jolla, CA, Wait Period Ends: 06/29/2009, Contact: William F. Broglie 301-713-0836.

EIS No. 20090173, Draft EIS, UCG, 00, Goethals Bridge Replacement Project, Construction of Bridge across the Arthur Kill between Staten Island New York and Elizabeth, New Jersey, Funding and USCG Bridge Permit, NY and NJ, Comment Period Ends: 07/13/2009, Contact: Shelly Sugarman 202-372-1521.

EIS No. 20090174, Final EIS, FHW, CA, Schuyler Heim Bridge Replacement and SR-47 Expressway Improvement Project, New Information related to Health Risk Associated with Air Toxics, Funding, US Coast Guard Bridge Permit, US Army COE Section 10 and 404 Permits, Ports of Long Beach and Los Angeles, Los Angeles County, CA, Wait Period Ends: 06/29/2009, Contact: Cesar Perez 916-498-5065.

Dated: June 26, 2009.
Ken Mittelholtz,
Environmental Protection Specialist, Office of Federal Activities.

[FR Doc. E9-12550 Filed 5-28-09; 8:45 am]

BILLING CODE 6560-50-P